DEPARTMENT OF TRANSPORTATION

Surface Transportation Board

[STB Finance Docket No. 35086]

Ogeechee Railroad Company—Acquisition and Operation Exemption—Georgia Midland Railroad, Inc.

Ogeechee Railroad Company (ORC), a noncarrier, has filed a verified notice of exemption under 49 CFR 1150.31 to acquire (by lease assignment) Georgia Midland Railroad, Inc.'s (GMR) lease from the Georgia Department of Transportation (GADOT) of a 21.1-mile rail line between milepost SA-36.4 at or near Ardmore, GA, and milepost SA-57.5 at or near Sylvania, GA (the Sylvania line), and to operate over it.

ORC indicates that, with the consent of GADOT, GMR acquired its lease of the Sylvania line by assignment from Ogeechee Railway Company.¹ ORC states that an agreement has been reached between ORC and GMR for the assignment of GMR's lease to ORC and for ORC's operation of the line. According to ORC, GADOT has indicated that it will consent to the assignment of GMR's lease to ORC upon ORC's becoming a rail carrier.

¹ See Georgia Midland Railroad, Inc.—Acquisition and Operation Exemption—Ogeechee Railway Company, STB Finance Docket No. 34466 (STB served Mar. 12, 2004).

ORC certifies that its projected revenues do not exceed those that would qualify it as a Class III rail carrier and further certifies that its projected annual revenues as a result of this transaction will not exceed $5 million.

The earliest this transaction may be consummated is October 24, 2007, the effective date of the exemption (30 days after the exemption was filed). ORC indicates that the transaction will be consummated no sooner than 30 days after the September 24, 2007 filing date of the notice of exemption.

If the verified notice contains false or misleading information, the exemption is void ab initio. Petitions to revoke the exemption under 49 U.S.C. 10502(d) may be filed at any time. The filing of a petition to revoke will not automatically stay the transaction. Petitions for stay must be filed no later than October 17, 2007 (at least 7 days before the exemption becomes effective).

An original and 10 copies of all pleadings, referring to STB Finance Docket No. 35086, must be filed with the Surface Transportation Board, 395 E Street, SW., Washington, DC 20423-0001. In addition, a copy of each pleading must be served on Thomas F. McFarland, Thomas F. McFarland, P.C., 208 South LaSalle Street, Suite 1890, Chicago, IL 60604-1112.

Board decisions and notices are available on our Web site at http://www.stb.dot.gov.

Decided: September 28, 2007.
By the Board, David M. Konschnik, Director, Office of Proceedings.
Vernon A. Williams,
Secretary.

[FR Doc. E7-19491 Filed 10-4-07; 8:45 am]

BILLING CODE 4915-01-P